DEPARTMENT OF COMMERCE

Bureau of the Census

[Docket Number 051213333-5333-01]

Annual Surveys in the Manufacturing Area

AGENCY: Bureau of the Census, Commerce.

ACTION: Notice of Determination.

SUMMARY: The Bureau of the Census (Census Bureau) is conducting the 2005 Annual Surveys in the Manufacturing Area. The 2005 Annual Surveys consist of the Current Industrial Reports surveys, the Annual Survey of Manufactures, the Survey of Industrial Research and Development, the Survey of Plant Capacity Utilization, and the Survey of Pollution Abatement Costs and Expenditures. We have determined that annual data collected from these surveys are needed to aid the efficient performance of essential governmental functions and have significant application to the needs of the public and industry. The data derived from these surveys, most of which have been conducted for many years, are not publicly available from nongovernmental or other governmental sources.

ADDRESSES: The Census Bureau will furnish report forms to organizations included in the survey. Additional copies are available upon written request to the Director, U.S. Census Bureau, Washington, DC 20233-0101.

FOR FURTHER INFORMATION CONTACT: Mendel D. Gayle, Acting Chief, Manufacturing and Construction Division, on (301) 763-4587.

SUPPLEMENTARY INFORMATION: The Census Bureau is authorized to conduct surveys necessary to furnish current data on the subjects covered by the major censuses authorized by Title 13, United States Code, Sections 61, 81, 182, 193, 224, and 225.

These surveys will provide continuing and timely national statistical data on manufacturing for the period between economic censuses. The next economic censuses will be conducted for the year 2007. The data collected in these surveys will be within the general scope and nature of those inquiries covered in the economic censuses.

Current Industrial Reports

Most of the following commodity or product surveys provide data on shipments or production, stocks, unfilled orders, orders booked, consumption, and so forth. Reports will be required of all, or a sample of, establishments engaged in the production of the items covered by the following list of surveys:

Survey Title

MA314Q—Carpets and Rugs

MA321T—Lumber Production and Mill Stocks

MA325F—Paint and Allied Products

MA325G—Pharmaceutical Preparations, except Biologicals

MA327C—Refractories

MA327E—Consumer, Scientific, Technical, and Industrial Glassware

MA331B—Steel Mill Products

MA332Q—Antifriction Bearings

MA333A—Farm Machinery and Lawn and Garden Equipment

MA333D—Construction Machinery

MA333F—Mining Machinery and Mineral Processing Equipment

MA333M—Refrigeration, Air-conditioning, and Warm Air Equipment

MA333P—Pumps and Compressors

MA334A—Analytical and Biomedical Instruments

MA334C—Control Instruments

MA334D—Defense, Navigational and Aerospace Electronics

MA334M—Consumer Electronics

MA334P—Telecommunications

MA334Q—Electronic Components

MA334R—Computers

MA334T—Meters and Test Devices

MA335E—Electric Housewares and Fans

MA335F—Major Household Appliances

MA335J—Insulated Wire and Cable

MA335K—Wiring Devices and Supplies

The following list of surveys represents annual counterparts of monthly and quarterly surveys and will cover only those establishments that are not canvassed, or do not report, in the more frequent surveys. Accordingly, there will be no duplication in reporting. The content of these annual reports (listed below) will be identical with that of the monthly and quarterly reports:

Survey Title

M311H—Animal and Vegetable Fats and Oils (Stocks)

M311J—Oilseeds, Beans, and Nuts (Primary Producers)

M311L—Fats and Oils (Renderers)

M311M—Animal and Vegetable Fats and Oils (Consumption and Stocks)

M311N—Animal and Vegetable Fats and Oils (Production, Consumption, and Stock)

M313P—Consumption on the Cotton System

M313N—Cotton and Raw Linters in Public Storage

M327G—Glass Containers

M336G—Civil Aircraft and Aircraft Engines

MQ311A—Flour Milling Products

MQ313A—Textiles

MQ315A—Apparel

MQ325A—Inorganic Chemicals

MQ325B—Fertilizer Materials

MQ327D—Clay Construction Products

MQ333W—Metalworking Machinery

MQ335C—Fluorescent Lamp Ballasts

Annual Survey of Manufactures

The Annual Survey of Manufactures collects industry statistics, such as total value of shipments, employment, payroll, workers' hours, capital expenditures, cost of materials consumed, supplemental labor costs, and so forth. This survey, conducted on a sample basis, covers all manufacturing industries, including data on plants under construction, but not yet in operation.

Survey of Industrial Research and Development

The Survey of Industrial Research and Development measures spending on research and development activities in private U.S. businesses. The Census Bureau collects and compiles this information in accordance with a joint project agreement between the National Science Foundation (NSF) and the Census Bureau. The NSF publishes the results in its publication series. Five data items in the survey provide interim statistics collected in the Census Bureau's economic censuses. These items (total company sales, total employment, total expenditures for research and development conducted within the company, federally-funded expenditures for research and development conducted within the company, and total expenditures and federally-funded expenditures for research and development within the company by state) are collected on a mandatory basis under the authority of Title 13, United States Code. Responses to all other data collected are voluntary.

Survey of Plant Capacity Utilization

The Survey of Plant Capacity Utilization is designed to measure the use of industrial capacity. The survey collects information on actual output and estimates of potential output in terms of value of production. These data are the basis for calculating rates of utilization of full production capability and use of production capability under national emergency conditions.

Survey of Pollution Abatement Costs and Expenditures

Under a joint project agreement with the Environmental Protection Agency, the Survey of Pollution Abatement Costs and Expenditures is designed to collect from establishments in manufacturing, mining, and electric utilities industries the total expenditures by industry and geographic area to abate pollutant emissions. The survey covers current operating costs and capital expenditures to abate air and water pollution and solid waste. The survey also will obtain the costs recovered from abatement activities.

Notwithstanding any other provision of law, no person is required to respond to, nor shall a person be subject to a penalty for failure to comply with, a collection of information subject to the requirements of the Paperwork Reduction Act (PRA) unless that collection of information displays a current, valid Office of Management and Budget (OMB) control number. In accordance with the PRA, 44 U.S.C., Chapter 45, the OMB approved the 2005 Annual Surveys under the following OMB control numbers: Current Industrial Reports—0607-0392, 0607-0395, and 0607-0476; Annual Survey of Manufactures—0607-0449; Survey of Industrial Research and Development—0607-0912; Survey of Plant Capacity Utilization—0607-0175, and Survey of Pollution Abatement Costs and Expenditures—0607-0176.

Based upon the foregoing, I have directed that the Annual Surveys in the Manufacturing Area be conducted for the purpose of collecting these data.

Dated: December 21, 2005.
Charles Louis Kincannon,
Director, Bureau of the Census.

[FR Doc. E5-7945 Filed 12-27-05; 8:45 am]

BILLING CODE 3510-07-P